NATIONAL LABOR RELATIONS BOARD

Realignment of Regional Office Geographic Boundaries

October 25, 2000.

AGENCY: National Labor Relations Board.

ACTION: Notice of geographical realignment of Philadelphia (Region 4), Pittsburgh (Region 6) and Baltimore (Region 5) Regional Offices.

SUMMARY: The National Labor Relations Board gives notice of its intent to realign the geographic boundaries of its Philadelphia, Pittsburgh and Baltimore Regional Offices. This realignment is being effectuated in order to meet the objective of reducing the backlog of unfair labor practice and representation cases, reducing governmental costs and improving administrative efficiency within the Agency. This constitutes a permanent realignment of counties that have already been the subject of temporary geographic realignment for periods of time ranging from one year to several years.

EFFECTIVE DATE: December 1, 2000.

FOR FURTHER INFORMATION CONTACT: John T. Toner, Executive Secretary, 1099 14th Street, NW., Room 1600, Washington, DC 20570. Telephone: (202) 273-1944.

SUPPLEMENTARY INFORMATION: Beginning December 1, 2000, parties wishing to file unfair labor practice charges and representation petitions arising in 15 counties formerly within the geographic jurisdiction of the Philadelphia office will file in either the Pittsburgh or the Baltimore office according to the following design.

1. Cases originating in New Castle County, Delaware will be filed in the Baltimore office in Region 5 rather than in the Philadelphia office in Region 4. Cases originating in these counties have been handled by the Baltimore Regional Office on a temporary basis for a period of approximately one year.

2. Cases arising in the counties of Lycoming, Sullivan, Union, Montour, Snyder, Juniata, Dauphin, Northumberland, Lebanon, Schuylkill, Columbia and Perry will be filed in our Pittsburgh office in Region 6 rather than in our Philadelphia office in Region 4. Cases originating in these counties have been handled on a temporary basis for periods ranging from one to three years.

3. Cases originating in Bradford and Tioga Counties will be filed with our Pittsburgh office in Region 6 rather than with our Philadelphia office in Region 4. Cases originating in these counties have been handled on a temporary basis for a period of three years by our Albany, New York office in Region 3.

Dated: Washington, DC, October 25, 2000.
By Direction of the Board: National Labor Relations Board.
John T. Toner,
Executive Secretary.

[FR Doc. 00-27747 Filed 10-27-00; 8:45 am]

BILLING CODE 7545-01-M